FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Application Pursuant to Section 19 of the Federal Deposit Insurance Act.

OMB Number: 3064-0018.

Form Number: 6710/07.

Annual Burden:

Estimated annual number of respondents: 14.

Estimated time per response: 16 hours.

Total annual burden hours: 224 hours.

Expiration Date of OMB Clearance: July 31, 2003.

SUPPLEMENTARY INFORMATION: Section 19 of the Federal Deposit Insurance Act requires insured depository institutions to obtain the FDIC's consent prior to any participation in their affairs by a person convicted of crimes involving dishonesty or breach of trust. Form 6710/07 is the vehicle for requesting FDIC consent.

2. Type of Review: Renewal of a currently approved collection.

Title: Activities and Investments of Insured State Banks.

OMB Number: 3064-0111.

Annual Burden:

Estimated number of respondents: 130.

Estimated time per response: 8 hours.

Total annual burden hours: 1,040 hours.

Expiration Date of OMB Clearance: August 31, 2003.

SUPPLEMENTARY INFORMATION: Part 362 of the FDIC's rules and regulations, implement the provisions of section 24 of the Federal Deposit Insurance Act that restrict and prohibit insured state banks and their subsidiaries from engaging in activities and investments that are not permissible for national banks and their subsidiaries. The collection of information involves banks or their subsidiaries desiring to engage in activities that would be impermissible absent the FDIC's consent or nonobjection.

OMB Reviewer: Joseph F. Lackey, Jr., (202) 395-4741, Office of Management and Budget, Office of Information and Regulatory Affairs, Washington, DC 20503.

FDIC Contact: Tamara R. Manly, (202) 898-7453, Legal Division, Room MB-3109, Federal Deposit Insurance Corporation, 550 17th Street, NW., Washington, DC 20429.

Comments: Comments on these collections of information are welcome and should be submitted on or before July 11, 2003, to both the OMB reviewer and the FDIC contact listed above.

ADDRESSES: Information about this submission, including copies of the proposed collections of information, may be obtained by calling or writing the FDIC contact listed above.

Dated: June 4, 2003.
Federal Deposit Insurance Corporation.
Robert E. Feldman,
Executive Secretary.

[FR Doc. 03-14639 Filed 6-10-03; 8:45 am]

BILLING CODE 6714-01-P